DEPARTMENT OF DEFENSE

Department of the Army; Corps of Engineers

Federal Interagency Steering Committee on Multimedia Environmental Modeling

AGENCY: Department of the Army, U.S. Army Corps of Engineers, DoD.

ACTION: Notice of open meeting.

SUMMARY: The annual public meeting of the Federal Interagency Steering Committee on Multimedia Environmental Modeling (ISCMEM) will convene to review progress by the working groups and to discuss initiatives for FY 2004.

Date of Meeting: September 24, 2003.

Place: U.S. Nuclear Regulatory Commission Headquarters Auditorium, 11545 Rockville Pike, Rockville, MD, 20852.

Time: 9:30 a.m. to 4 p.m.

FOR FURTHER INFORMATION CONTACT: Inquiries and notice of intent to attend the meeting may be addressed to Dr. Mark S. Dortch, ISCMEM Chair, Environmental Laboratory, U.S. Army Engineer Research and Development Center, 3909 Halls Ferry Road, Vicksburg, MS 39180-6199, or phone 601-634-3517.

SUPPLEMENTARY INFORMATION: Background: On July 5, 2001, six Federal agencies entered into a Memorandum of Understanding (MOU) on research and development of multimedia environmental modeling (for a copy of the MOU with addendums, and details of the activities please see http://www.ISCMEM.Org). In 2002 and 2003, two additional Federal Agencies joined the interagency cooperative project. The MOU establishes a framework for facilitating cooperation and coordination among the following agencies (the specific research organization within the agency is in parenthesis): U.S. Army Corps of Engineers (Engineer Research and Development Center); U.S. Department of Agriculture (Agricultural Research Service); U.S. Department of Agriculture (Natural Resources Conservation Service); U.S. Department of Energy (Office of Research and Development); U.S. Geological Survey; U.S. National Oceanographic and Atmospheric Administration; and U.S. Nuclear Regulatory Commission (Office of Nuclear Regulatory Research). These agencies are cooperating and coordinating in research and development (R&D) of multimedia environmental models, software and related databases, including development, enhancements, applications and assessments of site-specific, generic, and process-oriented multimedia environmental models as they pertain to human and environmental health risk assessment. Specifically, the MOU supports collaboration and the exchange of technical information in support of multimedia environmental modeling focusing on environmental risk assessments, including development/enhancements of models and model frameworks or infrastructure and advancement of related technical activities, such as considering uncertainty and model application procedures.

Purpose of the Public Meeting: The annual public meeting provides an opportunity for the scientific community, other Federal and State agencies, and the public to be briefed on the progress of the MOU working groups and their initiatives for the upcoming year, and to discuss technological advancements in multimedia environmental modeling.

Proposed Agenda: The ISCMEM Chair will report on new participating Federal agencies. The four MOU working groups, Software System Design and Implementation, Uncertainty and Parameter Estimation, Modeling Reactive Transport, and Watershed Modeling, will report on their progress during the year. A series of technical presentations will focus on: progress on the Geospatial Library for Environmental Modeling (GEOLEM) project as related to integration of modeling frameworks and GIS; results of the International Workshop on Uncertainty, Sensitivity and Parameter; and activities towards conceptualized model development for subsurface reactive transport modeling of inorganic contaminants, radionuclides, and nutrients. Participation with this MOU of similar coordinating groups and consortia outside the U.S. will be discussed. A detailed agenda with presentation titles and speakers will be posted on the MOU public Web site: http://ww.ISCMEM.Org.

Meeting Access: The U.S. Nuclear Regulatory Commission (NRC) Headquarters Auditorium is located in Two White Flint North Building at 11545 Rockville Pike, Rockville, Maryland. To access the NRC Auditorium, please use the Two White Flint North building entrance to proceed through security. The most convenient transportation to the meeting venue is via Metro. Please take Metro to the White Flint Metro stop on the Red Line. NRC is directly across the street from the White Flint Metro exit on Marinelli Road. Please inform the security personnel that you are attending the public meeting on multimedia environmental modeling in the NRC Auditorium.

Mark S. Dortch,
Chair, Federal Interagency Steering Committee on Multimedia Environmental Modeling.

[FR Doc. 03-20909 Filed 8-14-03; 8:45 am]

BILLING CODE 3710-61-M